INTERNATIONAL TRADE COMMISSION

[Investigation No. 337-TA-850]

Certain Electronic Imaging Devices; Commission Determination Not To Review an Initial Determination Granting a Joint Motion To Amend the Notice of Investigation and Complaint

AGENCY: U.S. International Trade Commission.

ACTION: Notice.

SUMMARY: Notice is hereby given that the U.S. International Trade Commission has determined not to review the presiding administrative law judge's (“ALJ”) initial determination (“ID”) (Order No. 6) granting a motion by complainant FlashPoint Technology, Inc. (“Flashpoint”) and respondents Huawei Technologies Co., Ltd. and FutureWei Technologies, Inc. d/b/a Huawei Technologies (USA) (collectively “the Huawei Respondents”) to amend the Notice of Investigation (“NOI”) and complaint to replace the Huawei Respondents with Huawei Device Co., Ltd. of Shenzhen, China and Huawei Device USA Inc. of Plano, Texas.

FOR FURTHER INFORMATION CONTACT: Amanda S. Pitcher, Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 29, 2012, based on a complaint filed by FlashPoint Technology, Inc. (“Flashpoint”) of Peterborough, New Hampshire alleging violations of section 337 of the Tariff Act of 1930 (19 U.S.C. 1337) by reason of infringement of certain claims of U.S. Patent No. 6,400,471; U.S. Patent No. 6,222,538; U.S. Patent No. 6,504,575; and U.S. Patent No. 6,223,190. The NOI named HTC Corporation of Taoyuan, Taiwan; HTC America, Inc. of Bellevue, Washington; Pantech Co., Ltd. of Seoul, Korea; Pantech Wireless, Inc. of Atlanta, Georgia; Huawei Technologies Co., Ltd. of Shenzhen, China; FutureWei Technologies, Inc. d/b/a Huawei Technologies (USA) of Plano, Texas; ZTE Corporation of Shenzhen, China; and ZTE (USA) Inc. of Richardson, Texas.

On August 2, 2012, Flashpoint and respondents Huawei Technologies Co., Ltd. and FutureWei Technologies, Inc. d/b/a Huawei Technologies (USA) (collectively “the Huawei Respondents”) filed a motion to amend the complaint and NOI to replace the currently named Huawei Respondents with Huawei Device Co., Ltd., having a principal place of business at Section B, Huawei Administration Building, Bantian, Longgang, Shenzhen, Guangdong, P.R. China, 518129, and Huawei Device USA Inc., having a principal place of business at 5700 Tennyson Parkway, Suite #600, Plano, Texas 75024.

On August 9, 2012, the ALJ issued an ID granting the joint motion to amend the complaint and NOI to replace the named Huawei Respondents with Huawei Device Co., Ltd. and Huawei Device USA Inc. The ALJ found that good cause exists to amend the complaint and NOI because Flashpoint recently learned which entities are responsible for the accused products based on communications with counsel for the Huawei Respondents. In addition, the ALJ found that the substitution of the parties will not require extension of the target date, will not change the scope of the investigation, and will assist in obtaining a complete record for the investigation. No petitions for review were filed.

The Commission has determined not to review the ID.

The authority for the Commission=s determination is contained in section 337 of the Tariff Act of 1930, as amended (19 U.S.C. 1337), and in sections 210.43-45 of the Commission's Rules of Practice and Procedure (19 CFR 210.43-45).

By order of the Commission.
Issued: September 5, 2012.
Lisa R. Barton,
Acting Secretary to the Commission.

[FR Doc. 2012-22172 Filed 9-7-12; 8:45 am]

BILLING CODE 7020-02-P